SMALL BUSINESS ADMINISTRATION

[Disaster Declaration #14295 and #14296]

Kentucky Disaster Number KY-00055

AGENCY: U.S. Small Business Administration.

ACTION: Amendment 2.

SUMMARY: This is an amendment of the Presidential declaration of a major disaster for Public Assistance Only for the Commonwealth of Kentucky (FEMA-4216-DR), dated 04/30/2015.

Incident: Severe Winter Storms, Snowstorms, Flooding, Landslides, and Mudslides.

Incident Period: 02/15/2015 through 02/22/2015.

DATES: Effective Date: 07/24/2015.

Physical Loan Application Deadline Date: 06/29/2015.

Economic Injury (EIDL) Loan Application Deadline Date: 02/01/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the Commonwealth of Kentucky, dated 04/30/2015, is hereby amended to include the following areas as adversely affected by the disaster.

Primary Counties: Adair, Anderson, Butler, Edmonson, Franklin, Lewis, Lincoln, Magoffin, Mccracken, Rockcastle, Union, Woodford.

All other information in the original declaration remains unchanged.

(Catalog of Federal Domestic Assistance Numbers 59002 and 59008)

James E. Rivera,
Associate Administrator for Disaster Assistance.

[FR Doc. 2015-18753 Filed 7-30-15; 8:45 am]

BILLING CODE 8025-01-P